DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Processed Products Family of Forms.

OMB Control Number: 0648-0018.

Form Number(s): NOAA 88-13, NOAA88-13(c).

Type of Request: Regular (extension of a currently approved information collection).

Number of Respondents: 747.

Average Hours per Response: 30 minutes for an Annual Processed Products Report and 15 minutes for a monthly Fishery Products Report Fish Meal and Oil.

Burden Hours: 395.

Needs and Uses: This request is for extension of a current information collection.

National Oceanic and Atmospheric Administration (NOAA) annually collects information from seafood and industrial fishing processing plants on the volume and value of their processed fishery products and their monthly employment figures. NOAA also collects monthly production volume of fish meal, oil, and solubles. The information gathered is used by NOAA in the economic and social analyses developed when proposing and evaluating fishery management actions.

Affected Public: Business and other for-profit organizations.

Frequency: Annually and monthly.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 29, 2017.
Sarah Brabson,
NOAA PRA Clearance Officer.

[FR Doc. 2017-18620 Filed 8-31-17; 8:45 am]

BILLING CODE 3510-22-P